DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Canadian National Railway Company

[Docket Number FRA-2006-26178]

The Canadian National Railway Company (CN) requests a waiver of compliance from certain provisions of Title 49 Code of Federal Regulations (CFR) Part 228.9(a)(1), Hours of Service of Railroad Employees, for CN to utilize a computerized system of recording hours of duty data. The CFR requires that records maintained under Part 228.9(a)(1) be signed by the employee whose time is being recorded, or in the case of train and engine crews, signed by the ranking crewmember. CN seeks to utilize a computerized system of recording hours of duty information which would not comply with the above requirements for a “signature” of the employee or ranking crewmember. CN proposes that each employee will have his or her own identification number (ID) and personal identification number (PIN). The PIN will remain confidential to the employee. The employee ID and PIN will be used to restrict access to jobs or train reporting screens to only the employee or ranking crew member of that specific job or train. When an employee accesses his or her reporting screens for input of the hours of service record required by CFR Part 228.11, the employee's PIN will not appear on the computer screen. After entering the appropriate data, the employee will be asked to “certify” his or her entries. When certified, the data entered by the employee will be date- and time-stamped by the computer. The employee's certified record will then be available through the FRA Inspection Screen and will display the employee's ID Number along with the date and time of certification. CN proposes to replace the current manually signed paper record with a printable copy of the employee's program-entered data showing the date, time and ID of entering employee.

CN warrants that FRA will be able to access each employee's certified records through agency-approved selection criteria. This criteria makes all CN employee hours of service records in the program available for review and printing by an inspector.

CN maintains that the change is in the best interests of all parties because it will reduce unnecessary paperwork and the costs associated therewith while providing the railroad, its employees, and the FRA with a superior level of information on a more timely basis than is currently available.

Interested parties are invited to participate in these proceedings by submitting written data or comments. FRA does not anticipate scheduling a public hearing in connection with these proceedings since the facts do not appear to warrant a hearing. If any interested party desires an opportunity for oral comment, they should notify FRA in writing before the end of the comment period and specify the basis for their request.

All communications concerning these proceedings should identify the appropriate docket number (FR-2006-26178) and may be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the plaza level of the Nassif Building, 400 Seventh Street, SW., Washington, DC, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on December 6, 2006.
Grady C. Cothen, Jr.,
Deputy Associate Administrator for Safety Standards and Program Development.

[FR Doc. E6-21022 Filed 12-11-06; 8:45 am]

BILLING CODE 4910-06-P